INTERNATIONAL TRADE COMMISSION

[Investigation No. 731-TA-1574 (Final)]

Superabsorbent Polymers From South Korea Determination

On the basis of the record ¹ developed in the subject investigation, the United States International Trade Commission (“Commission”) determines, pursuant to the Tariff Act of 1930 (“the Act”), that an industry in the United States is materially injured by reason of imports of superabsorbent polymers (SAP) from South Korea, provided for in subheadings 3906.90.50 and 3906.10.00 of the Harmonized Tariff Schedule of the United States, that have been found by the U.S. Department of Commerce (“Commerce”) to be sold in the United States at less than fair value (“LTFV”).²

¹ The record is defined in § 207.2(f) of the Commission's Rules of Practice and Procedure (19 CFR 207.2(f)).

² 87 FR 65035 (October 27, 2022).

Background

The Commission instituted this investigation effective November 2, 2021, following receipt of a petition filed with the Commission and Commerce by the Ad Hoc Coalition of American SAP Producers, whose members include BASF Corporation, Florham Park, New Jersey; Evonik Superabsorber LLC, Greensboro, North Carolina; and Nippon Shokubai America Industries, Inc., Pasadena, Texas. The Commission scheduled the final phase of the investigation following notification of a preliminary determination by Commerce that imports of SAP from South Korea were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of June 28, 2022 (87 FR 38422). The Commission conducted its hearing on October 18, 2022. All persons who requested the opportunity were permitted to participate.

The Commission made this determination pursuant to section 735(b) of the Act (19 U.S.C. 1673d(b)). It completed and filed its determination in this investigation on December 8, 2022. The views of the Commission are contained in USITC Publication 5388 (December 2022), entitled Superabsorbent Polymers from South Korea: Investigation No. 731-TA-1574 (Final).

By order of the Commission.
Issued: December 8, 2022.
Katherine Hiner,
Acting Secretary to the Commission.

[FR Doc. 2022-27115 Filed 12-13-22; 8:45 am]

BILLING CODE 7020-02-P